NUCLEAR REGULATORY COMMISSION

Advisory Committee on Nuclear Waste; Notice of Meeting

The Advisory Committee on Nuclear Waste (ACNW) will hold its 152nd meeting on July 20-22, 2004, Room T-2B3, 11545 Rockville Pike, Rockville, Maryland.

The entire meeting will be open to public attendance except for portions that will be closed to discuss organizational and personnel matters that relate solely to internal personnel rules and practices of the ACNW; information the release of which would constitute a clearly unwarranted invasion of personal privacy; and information the premature disclosure of which would be likely to significantly frustrate implementation of a proposed agency action pursuant to 5 U.S.C. 552b(c)(2), (6) and (9)(B).

The schedule for this meeting is as follows:

Tuesday, July 20, 2004

10 a.m.-10:10 a.m.: Opening Statement (Open)—The Chairman will open the meeting with brief opening remarks, outline the topics to be discussed, and indicate items of interest.

10:10 a.m.-11:30 a.m.: Package Performance Study (PPS) (Open)—The Committee will hear a report from representatives of the NRC staff on the proposed package performance study which will demonstrate the resistance to impact and fire of a spent nuclear fuel rail shipping cask.

11:45 a.m.-12:45 p.m.: License Termination Rule (LTR) Analysis of the Use of Intentional Mixing of Contaminated Soil (Open)—The Committee will hear presentations by and hold discussions with a representative of the NRC staff regarding SECY-04-0035—the LTR analysis of the use of intentional mixing of contaminated soil.

1:45 p.m.-2:45 p.m.: Risk-Informing Yucca Mountain Inspection Systems (Open)—The Committee will hear presentations by and hold discussions with a representative of the NRC staff regarding the status of plans to risk-inform the inspection system at Yucca Mountain.

2:45 p.m.-3:15 p.m.: Japan Trip (Open)—The Committee will be briefed by a Japanese exchange engineer on its August 2004 visit to Japanese waste management facilities. Member presentations during the visit will be discussed.

3:15 p.m.-5 p.m.: Preparation of ACNW Reports (Open)—The Committee will discuss proposed ACNW reports on matters considered during this and prior meetings regarding reports on Geosphere Transport Working Group, Treatment of Uncertainties in Hydrologic Models, License Termination Rule Analysis of Use of Intentional Mixing of Contaminated Soil, Risk-Informing Yucca Mountain Inspection System and Package Performance Study.

5:15 p.m.-6:30 p.m.: Preparation for Meeting with the NRC Commissioners (Open)—The Committee will meet with the NRC Commissioners at 10 a.m. in the Commissioners' Conference Room, One White Flint North on July 21, 2004. The Committee will review its presentations.

Wednesday, July 21, 2004

8:30 a.m.-8:35 a.m.: Opening Statement (Open)—The Chairman will make opening remarks regarding the conduct of today's sessions.

8:35 a.m.-9:15 a.m.: Preparation for Meeting with the NRC Commissioners (Continued) (Open)—The Committee will discuss the following topics scheduled for the Committee meeting with the NRC Commissioners:

(1) Overview

(2) Risk Insights Activities

(3) ACNW Working Group Sessions

—Biosphere (MTR)

—Geosphere (GMH)

(4) Other Committee Activities

—NRC/CNWRA Research

—NMSS Decommissioning Programs

(5) Closing Comments

9:30 a.m.-11:30 a.m.: Meeting with the NRC Commissioners, Commissioners' Conference Room, One White Flint North (Open)—The Committee will meet with the NRC Commissioners to discuss items noted above.

1 p.m.-2:15 p.m.: Integrated Safety Assessment (ISA) Background Briefing (Open)—The Committee will receive a background briefing by a member of its staff on the general ISA approach, examples of its use and lessons learned thus far.

2:15 p.m.-3:15 p.m.: Health Physics (HP) Issues (Open)—The Committee will hear presentations by and hold discussions with a representative of the NRC staff regarding activities for the ICRP recommendations review, and an overview of those recommendations.

3:30 p.m.-4 p.m.: Site Visit and Igneous Activity Working Group (Open)—The Committee will finalize its proposed activities for the September Nevada field trip and the agenda for the Working Group in Las Vegas, NV during the 153rd ACNW Meeting, September 22-24, 2004.

4 p.m.-4:30 p.m.: Committee Retreat (Open/Closed)—The Committee will discuss its plans on technical topics it intends to examine over the next 12 to 18 months and ACNW activities and related matters as it integrates recently approved activities into its action plan. The retreat is currently scheduled for September 24, 2004.

[Note: This session may be closed pursuant to 5 U.S.C. 552b (c) (2), (6) and (9) (B) to discuss organizational and personnel matters that relate solely to internal personnel rules and practices of the ACNW; information the release of which would constitute a clearly unwarranted invasion of personal privacy; and information the premature disclosure of which would be likely to significantly frustrate implementation of a proposed agency action.]

4:45 p.m.-6:30 p.m.: Preparation of ACNW Reports (Open)—The Committee will discuss proposed ACNW reports on matters considered during this meeting.

Thursday, July 22, 2004

8:30 a.m.-8:35 a.m.: Opening Statement (Open)—The Chairman will make opening remarks regarding the conduct of today's sessions.

8:35 a.m.-11:45 a.m.: Preparation of ACNW Reports (Open)—The Committee will continue its discussion of the proposed ACNW letter reports.

11:45 a.m.-12 Noon: Miscellaneous (Open)—The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Assistant Director for ACNW/Team Leader (Telephone 301/415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

In accordance with subsection 10(d) Pub. L. 92-463, I have determined that it is necessary to close portions of this meeting noted above to discuss organizational and personnel matters that relate solely to internal personnel rules and practices of the ACNW; information the release of which would constitute a clearly unwarranted invasion of personal privacy; and information the premature disclosure of which would be likely to significantly frustrate implementation of a proposed agency action pursuant to 5 U.S.C. 552b(c)(2), (6) and (9)(B).

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system(ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

Dated: July 8, 2004.
Andrew L. Bates,
Advisory Committee Management Officer.

[FR Doc. 04-15919 Filed 7-13-04; 8:45 am]

BILLING CODE 7590-01-P